DEPARTMENT OF COMMERCE

National Telecommunications and Information Administration

Proposed Information Collection; Comment Request; State Broadband Data and Development Grant Program Progress Report

AGENCY: National Telecommunications and Information Administration.

ACTION: Notice.

SUMMARY: The Department of Commerce, as part of its continuing effort to reduce paperwork and respondent burden, invites the general public and other Federal agencies to take this opportunity to comment on the proposed revision and/or continuing information collections, as required by the Paperwork Reduction Act of 1995.

DATES: Written comments must be submitted on or before June 18, 2012.

ADDRESSES: Direct all written comments to Jennifer Jessup, Departmental Paperwork Clearance Officer, Department of Commerce, Room 6616, 14th and Constitution Avenue NW., Washington, DC 20230 (or via email to jjessup@doc.gov).

FOR FURTHER INFORMATION CONTACT: Requests for additional information or copies of the information collection instruments and instructions should be directed to Anne Neville, Director, State Broadband Initiative, Department of Commerce, National Telecommunications and Information Administration, 14th and Constitution Avenue NW., Washington, DC 20230 (or via email at aneville@ntia.doc.gov).

SUPPLEMENTARY INFORMATION:

I. Abstract

Section 6001 (l) of the American Recovery and Reinvestment Act of 2009 (Recovery Act), Public Law 111-5 (2009), required the Assistant Secretary of Commerce for Communications and Information (Assistant Secretary) to develop and maintain a comprehensive, interactive, and searchable nationwide inventory map of existing broadband service capability and availability in the United States that depicts the geographic extent to which broadband service capability is deployed and available from a commercial or public provider throughout each state. (Recovery Act section 6001(l), 123 Stat. at 516). The statue further provided that the Assistant Secretary would make the national broadband map accessible by the public on a National Telecommunications and Information Administration (NTIA) Web site no later than February 17, 2011.

On July 8, 2009, NTIA issued the Notice of Funds Availability (NOFA) and Solicitation of Applications setting forth the requirements for the State Broadband Data and Development (SBDD) Grant Program (NOFA, 74 FR 32545, July 8, 2009), a competitive, merit-based matching grant program funding projects that collect comprehensive and accurate State-level broadband mapping data, develop State-level broadband maps, aid in the development and maintenance of a national broadband map, and fund statewide initiatives directed at broadband planning and capacity building.

The NOFA requires grantees to submit regular reports to NTIA. Specifically it states:

“All grantees under this Program will provide quarterly reports on:

(a) Achievement of project goals, objectives, and milestones (e.g., collection of a “substantially complete data set”; completion of data review or quality control process) as set forth by the applicant in their application timeline;

i. expenditure of grant funds and how much of the award remains;

ii. Amount of non-federal case or in-kind investment that is being added to complete the project; and

iii. whether the grantee is on schedule to provide broadband-related data in accordance with the mapping project timeline.” See 74 FR 32556 (July 8, 2009).

NTIA requires these quarterly Performance Progress Reports (PPRs) in order to gauge the progress of grantees in meeting their project goals. Without such formal reporting, NTIA is unable to effectively monitor the expenditure of these Recovery Act funds. While grantees are also required to submit Recovery Act reports, these reports do not include vital details that NTIA needs in order to provide proper oversight of activities.

After reviewing recent PPRs, NTIA has identified a need to revise its existing PPR format by changing existing questions and adding new questions to improve clarity, reduce the frequency with which some information is reported, and delete certain items that are not necessary for effective performance monitoring. The revisions will improve the quality of recipients' responses and enable NTIA to better monitor and assess the extent to which the recipients are meeting program goals and milestones. NTIA has assessed that the revisions will not change the estimated response time on grantees.

II. Method of Collection

NTIA will continue to require grantees to submit their reports using the existing Post-Award Monitoring (PAM) System.

III. Data

OMB Control Number: 0660-0034.

Form Number(s): None.

Type of Review: Regular submission (revision of a currently approved information collection).

Affected Public: State governments and not-for-profit institutions.

Estimated Number of Respondents: 56.

Estimated Time per Response: 4 hours.

Estimated Total Annual Burden Hours: 896.

Estimated Total Annual Cost to Public: $0.

IV. Request for Comments

Comments are invited on: (a) Whether the revised collection of information is necessary for the proper performance of the functions of the agency, including whether the information shall have practical utility; (b) the accuracy of the agency's estimate of the burden (including hours and cost) of the revised proposed collection of information; (c) ways to enhance the quality, utility, and clarity of the monitoring information to be collected; and (d) ways to minimize the burden of the collection of information on respondents, including through the use of automated collection techniques or other forms of information technology.

Comments submitted in response to this notice will be summarized and/or included in the request for OMB approval of this information collection; they also will become a matter of public record.

Dated: April 12, 2012.
Gwellnar Banks,
Management Analyst, Office of the Chief Information Officer.

[FR Doc. 2012-9164 Filed 4-16-12; 8:45 am]

BILLING CODE 3510-06-P